DEPARTMENT OF DEFENSE

Department of the Army

[Docket ID: USA-2016-HQ-0019]

Privacy Act of 1974; System of Records

AGENCY: Department of the Army, DoD.

ACTION: Notice to alter a System of Records.

SUMMARY: The Department of the Army proposes to alter the system of records notice A0690-990-2 SAMR, entitled “Voluntary Leave Transfer Program Records.” These records are used to manage voluntary leave transfers for Army civilian employees. The recipient's name, position data, organization, and a brief hardship description are published internally for passive solicitation purposes. The Social Security Number (SSN) is sought to effectuate the transfer of leave from the donor's account to the recipient's account.

DATES: Comments will be accepted on or before July 6, 2016. This proposed action will be effective on the date following the end of the comment period unless comments are received which result in a contrary determination.

ADDRESSES: You may submit comments, identified by docket number and title, by any of the following methods:

* Federal Rulemaking Portal: http://www.regulations.gov.

Follow the instructions for submitting comments.

* Mail: Department of Defense, Office of the Deputy Chief Management Officer, Directorate for Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-6185.

SUPPLEMENTARY INFORMATION: The Department of the Army's notices for systems of records subject to the Privacy Act of 1974 (5 U.S.C. 552a), as amended, have been published in the Federal Register and are available from the address in the FOR FURTHER INFORMATION CONTACT or from the Defense Privacy and Civil Liberties Division Web site at http://dpcld.defense.gov/.

The proposed systems reports, as required by 5 U.S.C. 552a of the Privacy Act, as amended, were submitted on May 17, 2016, to the House Committee on Oversight and Government Reform, the Senate Committee on Homeland Security and Governmental Affairs, and the Office of Management and Budget (OMB) pursuant to paragraph 4 of Appendix I to OMB Circular No. A-130, “Federal Agency Responsibilities for Maintaining Records About Individuals,” revised November 28, 2000 (December 12, 2000 65 FR 77677).

Dated: June 1, 2016.
Aaron Siegel,
Alternate OSD Federal Register Liaison Officer, Department of Defense.

A0690-990-2 SAMR

System name:

Voluntary Leave Transfer Program Records (September 27, 2002, 67 FR 61078)

Changes:

* * * * *

Categories of individuals covered by the system:

Delete entry and replace with “Department of the Army Federal employees who have volunteered to participate in the voluntary leave transfer program as either a donor or a recipient.”

Categories of records in the system:

Delete entry and replace with “Leave and donor recipient records including the individual's name, organization, office telephone number, Social Security Number (SSN), position title, grade, pay level, leave balances, number of hours requested, brief description of the medical or personal hardship which qualifies the individual for inclusion in the program, and the status of that hardship.

The file may also contain medical or physician certifications and agency approvals or denials.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

Authority for maintenance of the system:

Delete entry and replace with “5 U.S.C. 6331 et seq., Leave; 10 U.S.C. 3013, Secretary of the Army; 5 CFR part 630, subpart I, Voluntary Leave Transfer Program; Army Regulation 690-990-2, Hours of Duty, Pay and Leave Annotated; and E.O. 9397 (SSN), as amended.”

* * * * *

Routine uses of records maintained in the system, including categories of users and the purposes of such uses:

Delete entry and replace with “In addition to those disclosures generally permitted under 5 U.S.C. 552a(b) of the Privacy Act of 1974, as amended, these records contained herein may specifically be disclosed outside the DoD as a routine use pursuant to 5 U.S.C. 552a(b)(3) as follows:

To the Department of Labor in connection with a claim filed by an employee for compensation due to a job-connected injury or illness.

Where leave donor and leave recipient are employed by different Federal agencies, to the personnel and pay offices of the Federal agency involved to effectuate the leave transfer.

The DoD Blanket Routine Uses set forth at the beginning of Army's compilation of systems of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Paper records and electronic storage media.”

Retrievability:

Delete entry and replace with “By name and SSN.”

Safeguards:

Delete entry and replace with “Records are collected, used, and maintained in controlled areas accessible only to authorized personnel. Physical security differs from site to site, but the automated records are maintained in controlled areas accessible only by authorized personnel. Access to electronic records is restricted by use of Common Access Cards (CACs) and is accessible only by users with an authorized account. The system and electronic backups are maintained in controlled facilities that employ physical restrictions and safeguards such as security guards, identification badges, key cards, and locks.”

Retention and disposal:

Delete entry and replace with “Keep 1 year after case is closed than destroy by deleting or shredding.”

* * * * *

Notification procedure:

Delete entry and replace with “Individuals seeking to determine whether information about themselves is contained in this system of records should address written inquiries to the Assistant Secretary of the Army, Manpower and Reserve Affairs Policy and Program Development, 200 Stovall Street, Alexandria, VA 22332-0300.

For verification purposes, the individual should provide full name, current address, SSN, and the request must be signed.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths:

`I declare (or certify, verify, or state) under penalty of perjury that the foregoing is true and correct. Executed on (date). (Signature)'.”

Record access procedures:

Delete entry and replace with “Individuals seeking access to information about themselves contained in this system of records should address written inquiries to the Assistant Secretary of the Army, Manpower and Reserve Affairs Policy and Program Development, 200 Stovall Street, Alexandria, VA 22332-0300.

For verification purposes, the individual should provide full name, current address, SSN, and the request must be signed.

In addition, the requester must provide a notarized statement or an unsworn declaration made in accordance with 28 U.S.C. 1746, in the following format:

If executed outside the United States:

`I declare (or certify, verify, or state) under penalty of perjury under the laws of the United State of America that the foregoing is true and correct. Executed on (date). (Signature)'.

If executed within the United States, its territories, possessions, or commonwealths:

`I declare (or certify, verify, or state) under penalty of perjury that the foregoing is true and correct. Executed on (date). (Signature)'.”

Contesting record procedures:

Delete entry and replace with “The Army's rules for accessing records, and for contesting contents and appealing initial agency determinations are contained in 32 CFR part 505, Army Privacy Program, or may be obtained from the system manager.”

Record source categories:

Delete entry and replace with “Individual, individual's designated representative, individual's leave records, and other federal employees.”

* * * * *

[FR Doc. 2016-13230 Filed 6-3-16; 8:45 am]

BILLING CODE 5001-06-P